DEPARTMENT OF AGRICULTURE

Animal and Plant Health Inspection Service

[Docket No. 03-055-1]

Notice of Request for Approval of an Information Collection

AGENCY: Animal and Plant Health Inspection Service, USDA.

ACTION: New information collection; comment request.

SUMMARY: In accordance with the Paperwork Reduction Act of 1995, this notice announces the Animal and Plant Health Inspection Service's intention to initiate a new information collection for ongoing monitoring activities: (1) The National Animal Heath Reporting System; (2) the Sentinel Feedlot Monitoring Program; and (3) the Collaboration on Animal Health and Food Safety Epidemiology's Antimicrobial Resistance Monitoring Program.

DATES: We will consider all comments that we receive on or before August 25, 2003.

ADDRESSES: You may submit comments by postal mail/commercial delivery or by e-mail. If you use postal mail/commercial delivery, please send four copies of your comment (an original and three copies) to: Docket No. 03-055-1, Regulatory Analysis and Development, PPD, APHIS, Station 3C71, 4700 River Road Unit 118, Riverdale, MD 20737-1238. Please state that your comment refers to Docket No. 03-055-1. If you use e-mail, address your comment to regulations@aphis.usda.gov. Your comment must be contained in the body of your message; do not send attached files. Please include your name and address in your message and “Docket No. 03-055-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the National Animal Health Ongoing Monitoring System, contact Mr. Chris Quatrano, Management Analyst, Centers for Epidemiology and Animal Health, VS, APHIS, 2150 Centre Avenue, Building B, Fort Collins, CO 80526-8117; (970) 494-7207. For copies of more detailed information on the information collection, contact Mrs. Celeste Sickles, APHIS' Information Collection Coordinator, at (301) 734-7477.

SUPPLEMENTARY INFORMATION: Title: National Animal Health Ongoing Monitoring System.

OMB Number: 0579-XXXX.

Type of Request: Approval of a new information collection.

Abstract: The United States Department of Agriculture is responsible for protecting the health of our Nation's livestock and poultry populations by preventing the introduction and interstate spread of contagious, infectious, or communicable diseases of livestock and poultry and for eradicating such diseases from the United States when feasible. In connection with this mission, the Centers for Epidemiology and Animal Health (CEAH), Veterinary Services, Animal and Plant Health Inspection Service (APHIS), plans to initiate as part of the National Animal Health Monitoring System (NAHMS) an information collection to gather data for the following ongoing monitoring systems. Participation in any NAHMS study is voluntary, and all information is confidential.

National Animal Health Reporting System (NAHRS)

CEAH will collect data monthly from State veterinarians on the presence and absence of specific diseases. As a member country of the Office International des Epizooties (OIE), the United States must submit an annual report on the status of List A and B diseases ¹ within the United States, and immediately report on any List A disease. The potential benefits to trade include accurate reporting on the health status of the U.S. livestock industry, expansion of livestock industries into new export markets, and preservation of existing markets through increased confidence in quality and disease freedom of U.S. livestock. This data collection is unique in terms of the type, quantity, and frequency; no other entity is collecting and reporting data on the health status of U.S. livestock to OIE.

¹ List A diseases: Transmissible diseases that have the potential for very serious and rapid spread, irrespective of national borders, that are of serious socio-economic or public health consequence and that are of major importance in the international trade of animals and animal products.

List B diseases: Transmissible diseases that are considered to be of socio-economic and/or public health importance within countries and that are significant in the international trade of animals and animal products.

Source: OIE, Paris, France.

Sentinel Feedlot Monitoring Program

CEAH will collect data from up to 10 private veterinary practitioners who oversee the health of approximately 20 percent of the cattle-on-feed in the United States. Data are analyzed for health and disease trends, reported monthly to the participants, and summarized periodically for Government reports and publications. This data collection is unique in terms of the type, frequency, and data collected and could become invaluable in the event of an emergency animal disease outbreak, or if an emerging or changing disease condition is detected. The information collected from feedlots will be used by researchers to identify problems and improve upon animal health guidelines, by feedlots to highlight areas for improvement, by consulting veterinarians to modify health programs in feedlots, and by pharmaceutical companies to research and create new products to minimize losses and maintain healthier cattle.

Collaboration on Animal Health and Food Safety Epidemiology (CAHFSE) Antimicrobial Resistance Monitoring Program

This program will monitor antimicrobial resistance among salmonella, enterococcus, campylobacter, and nonpathogenic indicator bacteria, such as non-type species E. coli. Both biological samples and operations management data will be collected quarterly from 25 operations (swine, dairy cattle, feedlot cattle, or poultry) nationwide and analyzed to track changes in resistance patterns and to better understand the ecology of antimicrobial resistance. A questionnaire will be used to measure general operations management, herd/flock demographics, and other relevant information that may be related to the ecology of antimicrobial resistance. Biological samples will be analyzed to measure the presence and prevalence of microbials. Information from CAHFSE studies will be disseminated to veterinary consultants/practitioners, industry and producer groups, and academia to monitor antimicrobial resistance and to identify problem areas in health management and feeding practices which contribute to disease transmission.

We are asking the Office of Management and Budget (OMB) to approve these information collection activities for the National Animal Health Ongoing Monitoring System.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.252469 hours per response.

Respondents: State public health officials, private laboratories, private veterinarians, and producers.

Estimated annual number of respondents: 160.

Estimated annual number of responses per respondent: 10.125.

Estimated annual number of responses: 1,620.

Estimated total annual burden on respondents: 2,029 hours. (Due to averaging, the total annual burden hours may not equal the product of the annual number of responses multiplied by the reporting burden per response.)

All responses to this notice will be summarized and included in the request for OMB approval. All comments will also become a matter of public record.

Done in Washington, DC, this 19th day of June 2003.
Bobby R. Acord,
Administrator, Animal and Plant Health Inspection Service.

[FR Doc. 03-16040 Filed 6-24-03; 8:45 am]

BILLING CODE 3410-34-P